DEPARTMENT OF TRANSPORTATION

Pipeline and Hazardous Materials Safety Administration

Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 24, 2013.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on April 16, 2013.
Donald Burger,
Chief, General Approvals an Permits.

New Special Permits
Application No. | Docket No. | Applicant | Regulation(s) affected | Nature of special permits thereof
15837-N |  | Department of Defense, Scotts AFB, IL | 49 CFR 173.304a | To authorize the transportation in commerce of a Submarine High Data Rate (HDR)/Advanced Communications Mast (ACM) configured with a non-DOT specification pressure vessel containing anhydrous ammonia. (modes 1, 2, 3, 4)
15838-N |  | Primo Water, Winston-Salem, NC | 49 CFR 171.2(k) | To authorize the Corporation transportation in commerce of certain used cylinders that contain CO2, but not necessarily in an amount qualifying as hazardous material. (modes 1, 2, 3, 4)
15839-N |  | Sensors, Inc., Saline, MI | 49 CFR 172.202, 172.301, 172.400 and 177.834(h) | To authorize the discharge of a Division 2.1 material from an authorized DOT specification cylinder without removing the cylinder from the vehicle on which it is transported. (mode 1)
15847-N |  | Safariland, LLC, Jacksonville, FL | 49 CFR 173.4a | To authorize the transportation in commerce of Nitric acid up to 65% as an excepted quantity by cargo aircraft only. (modes 1,4)
15848-N |  | Ambri, Inc. , Cambridge, MA | 49 CFR 173.222(c)(1) | To authorize the transportation in commerce of Dangerous Goods in Equipment containing a lithium battery that exceeds the net quantity weight restriction when transported by motor vehicle and rail freight. (modes 1, 2)

[FR Doc. 2013-09399 Filed 4-23-13; 8:45 am]

BILLING CODE 4909-60-M